EXPORT-IMPORT BANK

[Public Notice 2013-0106]

Agency Information Collection Activities; Comment Request

AGENCY: Export-Import Bank of the United States.

ACTION: Submission for OMB Review and Comments Request.

Form Title: EIB 92-31 Notification by Insured of Amounts Payable Under Multi-Buyer Export Credit Insurance policy (Standard Assignment).

SUMMARY: The Export-Import Bank of the United States (Ex-Im Bank), as a part of its continuing effort to reduce paperwork and respondent burden, invites the general public and other Federal Agencies to comment on the proposed information collection, as required by the Paperwork Reduction Act of 1995.

This form represents the exporter's directive to Ex-Im Bank to whom and where the insurance proceeds should be sent. The forms are typically part of the documentation required by financial institution lenders in order to provide financing of an exporter's foreign accounts receivable. Foreign accounts receivable insured by Ex-Im Bank represent stronger collateral to secure the financing. By recording which policyholders have completed this form, Ex-Im Bank is able to determine how many of its exporter policyholders require Ex-Im Bank insurance policies to support lender financing.

The application can be reviewed at: www.exim.gov/pub/pending/eib92-31.pdf Single Buyer Export Credit Insurance Policy.

DATES: Comments should be received on or before May 17, 2013 to be assured of consideration.

ADDRESSES: Comments may be submitted electronically on www.regulations.gov (EIB-2013-0007) or by mail to Office of Information and Regulatory Affairs, 725 17th Street NW., Washington, DC 20038 Attn: OMB 3048-EIB92-31.

SUPPLEMENTARY INFORMATION: Titles and Form Number: EIB 92-31 Notification by Insured of Amounts Payable Under Multi-Buyer Export Credit Insurance policy (Standard Assignment).

OMB Number: 3048-XXXX.

Type of Review: New.

Need and Use: The information requested enables the applicant to provide Ex-Im Bank with the information necessary to obtain legislatively required assurance of repayment and fulfills other statutory requirements.

Annual Number of Respondents: 150.

Estimated Time per Respondent: 1 hour.

Frequency of Reporting or Use: Annually.

Government Review Time: 1 hour

Total Hours: 150 hours.

Cost to the Government: $4,875.00.

Benefits and Overhead: 28%.

Total Government Cost: $6,240.00.

Sharon A. Whitt,
Agency Clearance Officer.

[FR Doc. 2013-08983 Filed 4-16-13; 8:45 am]

BILLING CODE 6690-01-P